DEPARTMENT OF COMMERCE

National Oceanic and Atmospheric Administration

RIN 0648-XC117

Supplement to the Draft Programmatic Restoration Plan and Programmatic Environmental Impact Statement

AGENCY: National Marine Fisheries Service (NMFS), National Oceanic and Atmospheric Administration (NOAA), Commerce.

ACTION: Notice of availability; request for comments.

SUMMARY: The National Oceanic and Atmospheric Administration (NOAA) and the U.S. Department of the Interior, Fish and Wildlife Service, Washington Department of Ecology and Washington Department of Fish and Wildlife, Suquamish Tribe, Muckleshoot Indian Tribe, U.S. Army Corps of Engineers, and the U.S. Environmental Protection Agency are collectively referred to as the Trustee Council for this case. The Trustee Council is providing notice that the Supplement to the Draft Programmatic Restoration Plan and Programmatic Environmental Impact Statement (RP/PEIS) are being released for public comment. The Restoration Plan identifies a restoration approach to compensate for injuries to natural resources in the Lower Duwamish River. The Trustees seek damages from potentially responsible parties (PRPs) to restore, rehabilitate, replace or acquire the equivalent of natural resources and services injured by the release of hazardous substances in the Lower Duwamish River. This notice provides details on the availability of and opportunity to comment on the Supplement to the Draft Programmatic Restoration Plan and PEIS. Comments may be submitted in written form or verbally at a public meeting.

DATES: Written comments must be received by October 10, 2012.

Public meetings to discuss and comment on the Draft RP/PEIS will be held as follows:

• Wednesday, August 22, 2012, 6:30-8:30 p.m., South Seattle Community College, 6737 Corson Ave. South, Seattle, WA, 98108-3450.

• Thursday, August 23, 2012, 10-11:30 a.m., South Seattle Community College, 6737 Corson Ave. South, Seattle, WA, 98108-3450.

ADDRESSES: Written comments on the Supplement to the Draft RP/PEIS should be sent to Rebecca Hoff, NOAA DARC NW., 7600 Sand Point Way NE., Seattle, WA 98115. Comments may be submitted electronically to mailto:DuwamishPEIS.DARRP@noaa.gov.

The Supplement to the Draft Restoration Plan and PEIS are available for viewing at the following locations:

• Seattle Central Library, General Reference Desk, 1000 Fourth Ave., Seattle, WA 98104

• Delridge Library, General Reference Desk, 5423 Delridge Way SW., Seattle, WA 98106

• South Park Library, General Reference Desk, 8604 Eighth Ave. S. at South Cloverdale Street, Seattle, WA 98108

A full electronic copy may be downloaded at: http://www.darrp.noaa.gov/northwest/lowerduwamishriver/index.html.

FOR FURTHER INFORMATION CONTACT: Rebecca Hoff at (206) 526-6276 or email at Rebecca.Hoff@noaa.gov.

SUPPLEMENTARY INFORMATION: The Comprehensive Environmental Response, Compensation, and Liability Act of 1980 (CERCLA), the Oil Pollution Act (OPA) of 1990, the Clean Water Act (CWA), the National Oil and Hazardous Substances Pollution Contingency Plan (National Contingency Plan [NCP]), and other applicable federal and state laws and regulations provide a legal framework for addressing injuries to the nation's natural resources resulting from releases of hazardous substances and discharges of oil. The National Environmental Policy Act (NEPA) of 1960 requires an assessment of any federal action that may impact the environment, in this case development of a Restoration Plan.

Hazardous substance releases into the Lower Duwamish River (LDR) have resulted in the contamination of the sediments and injuries to natural resources. The Elliott Bay Trustee Council (Trustees) is developing the Lower Duwamish River Natural Resource Damage Assessment (LDR/NRDA) to determine the extent of injuries to natural resources resulting from these releases. Natural resources include fish, shellfish, wildlife, sediments, water quality, and the services they provide. Trustees are also determining how to restore injured natural resources and lost resource services. The Restoration Plan, which will guide decision-making regarding the implementation of LDR/NRDA restoration activities, is also a Programmatic Environmental Impact Statement (PEIS). The PEIS analyzes the environmental impacts of the alternatives that may be employed by the Trustees to restore, replace, rehabilitate, and/or acquire the equivalent of the injured natural resources and their services. The Trustees evaluated three alternatives—the No-Action Alternative, which is required to be included in the analysis; the Species-Specific Restoration Alternative and the Integrated Habitat Restoration Alternative. The Trustees' preferred alternative is Integrated Habitat Restoration, which is a comprehensive plan based on restoration of key habitats that, together, will benefit the range of different resources injured by releases of hazardous substances in the LDR. In addition, the Trustees have included a detailed description of the methodology considered for use in a settlement based approach to injury assessment for the Lower Duwamish River.

A previous draft RP/PEIS was made available for public review on May 22, 2009 (74 FR 25735, pages 25735-5736, EIS No. 20090171), with the comment period ending on July 28, 2009. In the current document, the Trustees added more detail about the injury assessment and restoration valuation methodology used in the LDR/NRDA, as requested in some of the comments received on the previous draft, and made some other more minor changes to address other comments.

The Trustee Council has opened an Administrative Record (Record). The Record includes documents that the Trustees relied upon during the development of the Draft Restoration Plan and Draft PEIS. The Record is on file at the offices of NOAA. The Record is also available at: http://www.darrp.noaa.gov/northwest/lowerduwamishriver/admin.html

Dated: July 20, 2012.
Brian T. Pawlak,
Acting Director, Office of Habitat Conservation, National Marine Fisheries Service.

[FR Doc. 2012-18293 Filed 7-25-12; 8:45 am]

BILLING CODE 3510-22-P